DEPARTMENT OF ENERGY

Federal Energy Regulatory Commission

[Docket Nos. IC09-65-001, IC09-65A-001, IC09-65B-001]

Commission Information Collection Activities; Comment Request; Submitted for OMB Review

January 15, 2009.

AGENCY: Federal Energy Regulatory Commission, DOE.

ACTION: Notice.

SUMMARY: In compliance with the requirements of section 3507 of the Paperwork Reduction Act of 1995, 44 U.S.C. 3507, the Federal Energy Regulatory Commission (Commission) has submitted the information collections described below to the Office of Management and Budget (OMB) for review of these information collection requirements. Any interested person may file comments directly with OMB and should address a copy of those comments to the Commission as explained below. The Commission received no comments in response to earlier Federal Register notices ¹ and has made this notation in its submissions to OMB.

¹ Notices for: FERC-65 (in Docket No. IC09-65), October 16, 2008, 73 FR 61414; FERC-65A (in Docket No. IC09-65A), October 15, 2008, 73 FR 61103; and FERC-65B (in Docket No. IC09-65B), October 16, 2008, 73 FR 61415.

DATES: Comments on the collections of information are due by February 19, 2009.

ADDRESSES: Address comments on the collections of information to the Office of Management and Budget, Office of Information and Regulatory Affairs, Attention: Federal Energy Regulatory Commission Desk Officer. Comments to OMB should be filed electronically, c/o oira_submission@omb.eop.gov and include the appropriate OMB Control Number(s) (1902-0218 for FERC-65, 1902-0216 for FERC-65A, and 1902-0217 for FERC-65B) as a point of reference. The Desk Officer may be reached by telephone at 202-395-7345.

A copy of the comments should also be sent to the Federal Energy Regulatory Commission and should refer to Docket Nos. IC09-65-001, IC09-65A-001, and IC09-65B-001. Comments may be filed either electronically or in paper format. Those persons filing electronically do not need to make a paper filing. Documents filed electronically via the Internet must be prepared in an acceptable filing format and in compliance with the Federal Energy Regulatory Commission submission guidelines. Complete filing instructions and acceptable filing formats are available at http://www.ferc.gov/help/submission-guide/electronic-media.asp. To file the document electronically, access the Commission's Web site and click on Documents & Filing, E-Filing (http://www.ferc.gov/docs-filing/efiling.asp), and then follow the instructions for each screen. First time users will have to establish a user name and password. The Commission will send an automatic acknowledgement to the sender's e-mail address upon receipt of comments.

For paper filings, an original and 2 copies of the comments should be submitted to the Federal Energy Regulatory Commission, Secretary of the Commission, 888 First Street, NE., Washington, DC 20426, and should refer to Docket Nos. IC09-65-001, IC09-65A-001, and IC09-65B-001.

All comments may be viewed, printed or downloaded remotely via the Internet through FERC's homepage using the “eLibrary” link. For user assistance, contact fercolinesupport@ferc.gov or toll-free at (866) 208-3676 or for TTY, contact (202) 502-8659.

FOR FURTHER INFORMATION CONTACT: Michael Miller may be reached by telephone at (202)502-8415, by fax at (202)273-0873, and by e-mail at michael.miller@ferc.gov.

SUPPLEMENTARY INFORMATION: FERC-65. The information collected under the requirements of FERC-65 “Notification of Holding Company Status” (OMB No. 1902-0218) is used by the Commission to implement the statutory provisions of the Public Utility Holding Company Act of 2005 (PUHCA 2005). Among other things, PUHCA 2005 was intended to give the Commission access to books and records relevant to costs incurred by a public utility or natural gas company which are necessary or appropriate for the protection of utility customers with respect to jurisdictional rates. For the Commission to carry out its rate regulation responsibilities, it must know who the entities are that are holding companies of jurisdictional public utilities and natural gas companies. The Commission obtains this information through the FERC-65 filings.

The FERC-65 is a one-time informational filing set out in the Commission's regulations (18 CFR 366.4) that must be submitted within 30 days of becoming a holding company. The information is required in no specific format and consists of the identities of: the holding company, the public utilities and natural gas companies in the holding company system, the service companies, including special-purpose subsidiaries providing non-power goods and services, and all affiliates and subsidiaries and their corporate relationship to each other. Filings may be submitted in hardcopy or electronically through the Commission's eFiling system.

FERC-65A. The information collected under the requirements of FERC-65A “Exemption Notification of Holding Company Status” (OMB No. 1902-0216) is also used by the Commission to implement the statutory provisions of PUHCA 2005. The Commission has allowed for an exemption if the books, accounts, memoranda, and other records of any person are not relevant to the jurisdictional rates of a public utility or natural gas company; or if any class of transactions is not relevant to the jurisdictional rates of a public utility or natural gas company. Commission regulations in 18 CFR 366.3 describe the criteria in more specificity, and 18 CFR 366.4 designates the use of FERC-65A for exemption requests. Filings may be submitted in hardcopy or electronically through the Commission's Web site.

FERC-65B. The information collected under the requirements of FERC-65B “Waiver Notification” (OMB No. 1902-0217) is also used by the Commission to implement the statutory provisions of PUHCA 2005. (This intention was made clear in Section 1264 of the Energy Policy Act of 2005, 42 U.S.C. 16452.) However, in 18 CFR 366.3(c), the Commission has allowed for waivers from related requirements for any holding company with respect to one or more of the following: (1) Single-state holding company systems; (2) holding companies that own generating facilities that total 100 MW or less in size, and are used fundamentally for their own load or for sales to affiliated end-users; or (3) investors in independent transmission-only companies.

Entities meeting these criteria may file a FERC-65B pursuant to the notification procedures contained in 18 CFR 366.4 to obtain a waiver. Filings may be made in hardcopy or electronically through the Commission's Web site.

Action: The Commission is requesting three-year extensions of the current expiration dates, with no changes to the existing collections of data.

Burden Statement: Public reporting burden for these collections are estimated as:

FERC Data collection | Number of respondents annually | Number of responses per respondent | Average burden hours per response | Total annual burden hours
| (1) | (2) | (3) | (1)×(2)×(3)
FERC-65 (Notification) | 30 | 1 | 3 | 90
FERC-65A (Exemption) | 10 | 1 | 1 | 10
FERC-65B (Waiver) | 10 | 1 | 1 | 10

Estimated costs to respondents are:

1. For FERC-65, $5,468. [90 hours divided by 2080 hours ² per year, times $126,384 ³ equals $5,468.54]. The average cost per respondent is $182.28.

² Number of hours an employee works each year.

³ Average annual salary per employee.

2. For FERC-65A, $607.62. [10 hours divided by 2080 hours ² per year, times $126,384 ³ equals $607.62]. The average cost per respondent is $60.76.

3. For FERC-65B, $607.62. [10 hours divided by 2080 hours ² per year, times $126,384 ³ equals $607.62]. The average cost per respondent is $60.76.

The reporting burden includes the total time, effort, or financial resources expended to generate, maintain, retain, disclose, or provide the information including: (1) Reviewing instructions; (2) developing, acquiring, installing, and utilizing technology and systems for the purposes of collecting, validating, verifying, processing, maintaining, disclosing and providing information; (3) adjusting the existing ways to comply with any previously applicable instructions and requirements; (4) training personnel to respond to a collection of information; (5) searching data sources; (6) completing and reviewing the collection of information; and (7) transmitting, or otherwise disclosing the information.

The estimate of cost for respondents is based upon salaries for professional and clerical support, as well as direct and indirect overhead costs. Direct costs include all costs directly attributable to providing this information, such as administrative costs and the cost for information technology. Indirect or overhead costs are costs incurred by an organization in support of its mission. These costs apply to activities which benefit the whole organization rather than any one particular function or activity.

Comments are invited on: (1) Whether the proposed collections of information are necessary for the proper performance of the functions of the Commission, including whether the information will have practical utility; (2) the accuracy of the agency's estimates of the burden of the proposed collections of information, including the validity of the methodology and assumptions used; (3) ways to enhance the quality, utility and clarity of the information to be collected; and (4) ways to minimize the burden of the collections of information on those who are to respond, including the use of appropriate automated, electronic, mechanical, or other technological collection techniques or other forms of information technology, e.g. permitting electronic submission of responses.

Kimberly D. Bose,
Secretary.

[FR Doc. E9-1470 Filed 1-23-09; 8:45 am]

BILLING CODE 6717-01-P